FEDERAL COMMUNICATIONS COMMISSION

Notice of Public Information Collection(s) Being Reviewed by the Federal Communications Commission

January 10, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 20, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0715.

Title: Implementation of the Telecommunications Act of 1996: Telecommunications Carrier's Use of Customer Proprietary Network Information and Other Customer Information—CC Docket No. 96-115.

Form No.: Not applicable.

Type of Review: Revision of a currently approved collection.

Respondents: Business or other for-profit.

Number of Respondents: 6,832.

Estimated Time Per Response: .25 to 78 hours.

Frequency of Response: Recordkeeping, requirement, third party disclosure requirement, on occasion reporting requirement, annual reporting requirement, and one-time reporting requirement.

Total Annual Burden: 616,817 hours.

Total Annual Cost: $229,520,000.

Needs and Uses: In the Order on Reconsideration in CC Docket No. 96-115, the Commission reconsidered the previous CPNI Order, addressed petitions for forbearance from the requirements, and established rules to implement section 222 of the Telecommunications Act of 1996.

Among other things, carriers are permitted to use CPNI, without customer approval, under certain conditions. Carriers must obtain express customer approval to use CPNI to market service outside the customer's existing service relationship. Carrier must provide a one-time notification of customer's CPNI rights prior to any solicitation for approval.

All of the collections, adopted and proposed, would be used to ensure that telecommunications carriers comply with the CPNI requirements the Commission promulgates in this Order to implement section 222 of the statute.

Federal Communications Commission.
Magalie Roman Salas,
Secretary.

[FR Doc. 00-1335 Filed 1-19-00; 8:45 am]

BILLING CODE 6712-01-U